DEPARTMENT OF DEFENSE

Office of the Secretary

Executive Committee Meeting of the Defense Advisory Committee on Women in the Services (DACOWITS)

AGENCY: Department of Defense, Advisory Committee on Women in the Services.

ACTION: Notice.

SUMMARY: Pursuant to Section 10(a), Public Law 92-463, as amended, notice is hereby given of a forthcoming Quarterly Executive Committee Meeting of the Defense Advisory Committee on Women in the Services (DACOWITS). The purpose of the Executive Committee Meeting is to review the responses to the recommendations and requests for information adopted by the Committee at the DACOWITS 2001 Spring Conference. All portions of the meetings are open to the public except the session on 9 September 2001 from 12:30-4:00 p.m. [5 U.S.C. 522b(c)(6)]

DATES: September 9-10, 2001, 8:30 a.m.—4:00 p.m.

ADDRESSES: Septemer 9, 2001—Courtyard Marriott, 2899 Jefferson Davis Highway, Arlington, VA 22202, September 10, 2001—Conference Room 5C1042, The Pentagon, Washington, DC 20301.

FOR FURTHER INFORMATION CONTACT: Colonel Patricia L. Nolin, USA, Director, DACOWITS and Military Women Matters, OASD (Force Management Policy), 4000 Defense Pentagon, Room 3D769, Washington, DC 20301-4000; (703) 697-2122.

SUPPLEMENTARY INFORMATION: Meeting agenda:

Time | Event | Official
Sunday, September 9, 2001
8:30 a.m. | Welcome | Ms. McCall.
8:45 a.m. | Installation Visit Overview | Ms. Patane.
9:30 a.m. | Break
9:45 a.m. | Forces Development and Utilization Review • Collocation/Direct Ground Combat Polices • USMC Women Planning Factors | Ms. Gormley.
10:05 a.m. | Quality of Life Review • Family Planning Issues • Field Sanitation Measures for Women • Education About Women's Health Care | Dr. Lattimore.
10:35 a.m. | Equality Management Review • Mentoring • Harassment & Sexual Assault • Army Human Relations Action Plan | Mr. Green.
11:05 a.m. | Break
11:20 a.m. | Fall Conference Review Develop Agendas | COL Nolin. CDR Bailey.
12:00 p.m. | Lunch/Wrap up of Meeting | Ms. McCall.
12:30 p.m. | Self Study Group Review (Closed to the Public)
4:00 p.m. | Adjourn
Monday, September 10, 2001
8:30 a.m. | DACOWITS Members Arrive | Military Staff.
9:00 a.m. | Chair Commences Meeting PDASD (FMP) Remarks Introduction of Executive Committee, MilReps, and Service Liaisons, (5C1042) | Ms. McCall. Ms. McGinn. Ms. McCall.
9:20 a.m. | Collection/Direct Ground Combat Policies (Forces Development and Utilization RFI #1) (5C1042) | USA.
10:00 a.m. | Break
10:15 a.m. | USMC Women Planning Factors | USMC.
11:00 a.m. | Break
11:30 a.m. | Official Luncheon with DCSPERs/J-1 (OSD Blue Room-3D854) | OSD (Host).
1:00 p.m. | Break
1:15 p.m. | Mentoring (Equality Management RFI #1 (5C1042) | USA, USN, USMC, USAF, USCG.
2:15 p.m. | Family Planning Issues | USA, USN, USMC, USAF, USCG.
3:15 p.m. | Break
3:30 p.m. | Voting Session | Ms. McCall.
3:45 p.m. | Fall Conference Overview and Wrap Up | Ms. McCall.
4:00 p.m. | Depart the Pentagon

Dated: August 20, 2001.
Patricia L. Toppings,
Alternate OSD Federal Register Liaison Officer, Department of Defense.

[FR Doc. 01-21532 Filed 8-24-01; 8:45 am]

BILLING CODE 5001-08-M